DEPARTMENT OF ENERGY

Federal Energy Regulatory Commission

[Docket No. RP00-417-00]

Colorado Interstate Gas Company; Notice of Tariff Filing

July 31, 2000.

Take notice that on July 25, 2000, Colorado Interstate Gas Company (CIG), tendered for filing to become part of its FERC Gas Tariff, First Revised Volume No. 1, the proposed tariff sheets listed on Appendix A to the filing, to be effective September 1, 2000.

CIG states it manages it storage fields by controlling the injection and withdrawal cycles such that the reservoir pressure, calculated in pound/days, above original pressure conditions in the reservoir are balanced against those below original pressure conditions. CIG further states it manages these pound/day requirements through the use of a Reservoir Integrity Inventory Limit which is a graphical representation of a shipper's maximum allowable gas inventory in place on any day as a percentage of the shipper's contractual maximum inventory. To increase the flexibility of its storage service CIG proposes to revise the graph to allow shippers to retain more gas in storage between cycles while maintaining the pound/day balancing requirement. CIG further states to accomplish this objective, the period of time that shippers can maintain a full storage inventory must be slightly reduced.

CIG further states that copies of this filing have been served on CIG's jurisdictional customers and public bodies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19751 Filed 8-3-00; 8:45 am]

BILLING CODE 6717-01-M